DEPARTMENT OF THE INTERIOR

National Park Service

Notice of Inventory Completion for Native American Human Remains and Associated Funerary Objects in the Possession of the South Carolina Institute of Archaeology and Anthropology, Columbia, SC, and in the Control of the U.S. Department of the Interior, Fish and Wildlife Service, Savannah Coastal Refuges, Savannah, GA

AGENCY: National Park Service, Interior.

ACTION: Notice.

Notice is hereby given in accordance with provisions of the Native American Graves Protection and Repatriation Act (NAGPRA), 43 CFR 10.9, of the completion of an inventory of human remains and associated funerary objects in the possession of the South Carolina Institute of Archaeology and Anthropology, Columbia, SC, and in the control of the U.S. Department of the Interior, Fish and Wildlife Service, Savannah Coastal Refuges, Savannah, GA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains and associated funerary objects was made by the South Carolina Institute of Archaeology and Anthropology staff on behalf of the Fish and Wildlife Service, Savannah Coastal Refuges, in consultation with representatives of the Santee Sioux Tribe of the Santee Reservation of Nebraska.

In 1973, human remains representing a minimum of one individual were removed during legally authorized excavations conducted by Leland G. Ferguson at the Santee Indian Mound/Fort Watson Site (38CR1), Clarendon County, SC, within Santee National Wildlife Refuge boundaries. No known individual was identified. No associated funerary objects are present.

In 1973, human remains representing a minimum of 26 individuals were removed during excavations conducted by Leland G. Ferguson at the Scott’s Lake Bluff Site (38CR35), Clarendon County, SC, within Santee National Wildlife Refuge boundaries. No known individuals were identified. The 36 associated funerary objects are 6 Caraway Triangular points, 1 granite celt, 1 polished celt, 11 shell beads, 8 quartz pebbles, 2 plain ceramic cover bowls, 2 Complicated Stamped ceramic urns, and miscellaneous clay, lithic, and pigment fragments.

Based on the archaeological evidence, the human remains and associated funerary objects listed above date to the Mississippian period (A.D. 1200-1600). Based upon ethnohistorical accounts, the Santee occupied an area in South Carolina along the river that bears their name. After their defeat by the English colonists and their ally, the Cusabo in the early 18th century, many of the Santee and the Congaree were transported to the West Indies as slaves or incorporated into the Catawba Indian Nation. However, legends of the Santee Sioux Tribe of the Santee Reservation of Nebraska state that “a drought occurred many years ago that caused the tribe to separate with one group remaining in South Carolina and the other moving west to find better hunting grounds.”

Based upon the above-mentioned information, officials of the Savannah Coastal Refuges, Fish and Wildlife Service and the South Carolina Institute of Archaeology and Anthropology have determined that, pursuant to 43 CFR 10.2(d)(1), the human remains listed above represent the physical remains of 27 individuals of Native American ancestry. Officials of the Savannah Coastal Refuges, Fish and Wildlife Service and the South Carolina Institute of Archaeology and Anthropology have also determined that, pursuant to 43 CFR 10.2(d)(2), the 36 objects listed above are reasonably believed to have been placed with or near individual human remains at the time of death or later as part of the death rite or ceremony. Lastly, officials of the Savannah Coastal Refuges, Fish and Wildlife Service and the South Carolina Institute of Archaeology and Anthropology have determined that, pursuant to 43 CFR 10.2(e), there is a relationship of shared group identity that can be reasonably traced between these Native American human remains and associated funerary objects and the Santee Sioux Tribe of the Santee Reservation of Nebraska.

This notice has been sent to officials of the Catawba Indian Nation, Eastern Band of Cherokee Indians of North Carolina, and Santee Sioux Tribe of the Santee Reservation of Nebraska. Representatives of any other Indian tribe that believes itself to be culturally affiliated with these human remains and cultural items should contact Richard S. Kanaski, Office of the Regional Archaeologist, Savannah Coastal Refuges, 1000 Business Center Drive - Suite 10, Savannah, GA 31405, (912) 652-4415, extension 113, before October 11, 2002. Repatriation of these human remains and cultural items to the Santee Sioux Tribe of the Santee Reservation of Nebraska may begin after the above date if no additional claimants come forward.

Dated: July 23, 2002.
Robert Stearns,
Manager, National NAGPRA Program.

[FR Doc. 02-23023 Filed 9-10-02; 8:45 am]

BILLING CODE 4310-70-S